DEPARTMENT OF EDUCATION

Office of Innovation and Improvement; Overview Information: Investing in Innovation Fund; Notice Inviting Applications for New Awards for Fiscal Year (FY) 2010

Catalog of Federal Domestic Assistance (CFDA) Numbers:

84.396A (Scale-up grants), 84.396B (Validation grants), and 84.396C (Development grants).

Dates:

Applications Available: March 12, 2010.

Deadline for Notice of Intent to Apply: April 1, 2010.

Deadline for Transmittal of Applications: May 11, 2010.

Dates of Pre-Application Workshops: March 19, 2010, in Baltimore, Maryland; March 24, 2010, in Denver, Colorado; and March 30, 2010, in Atlanta, Georgia.

Deadline for Intergovernmental Review: July 12, 2010.

Full Text of Announcement

I. Funding Opportunity Description

Purpose of Program: The Investing in Innovation Fund, established under section 14007 of the American Recovery and Reinvestment Act of 2009 (ARRA), provides funding to support (1) local educational agencies (LEAs), and (2) nonprofit organizations in partnership with (a) one or more LEAs or (b) a consortium of schools. The purpose of this program is to provide competitive grants to applicants with a record of improving student achievement and attainment in order to expand the implementation of, and investment in, innovative practices that are demonstrated to have an impact on improving student achievement or student growth (as defined in this notice), closing achievement gaps, decreasing dropout rates, increasing high school graduation rates, or increasing college enrollment and completion rates.

These grants will (1) allow eligible entities to expand and develop innovative practices that can serve as models of best practices, (2) allow eligible entities to work in partnership with the private sector and the philanthropic community, and (3) support eligible entities in identifying and documenting best practices that can be shared and taken to scale based on demonstrated success.

Under this program, the Department is awarding three types of grants: “Scale-up” grants, “Validation” grants, and “Development” grants. Applicants must specify which type of grant they are seeking at the time of application. Among the three grant types, there are differences in terms of the evidence that an applicant is required to submit in support of its proposed project; the expectations for “scaling up” successful projects during or after the grant period, either directly or through partners; and the funding that a successful applicant is eligible to receive. The following is an overview of the three types of grants:

(1) Scale-up grants provide funding to “scale up” practices, strategies, or programs for which there is strong evidence (as defined in this notice) that the proposed practice, strategy, or program will have a statistically significant effect on improving student achievement or student growth, closing achievement gaps, decreasing dropout rates, increasing high school graduation rates, or increasing college enrollment and completion rates, and that the effect of implementing the proposed practice, strategy, or program will be substantial and important. An applicant for a Scale-up grant may also demonstrate success through an intermediate variable strongly correlated with these outcomes, such as teacher or principal effectiveness.

An applicant for a Scale-up grant must estimate the number of students to be reached by the proposed project and provide evidence of its capacity to reach the proposed number of students during the course of the grant. In addition, an applicant for a Scale-up grant must provide evidence of its capacity (e.g., in terms of qualified personnel, financial resources, or management capacity) to scale up to a State, regional, or national level, working directly or through partners either during or following the grant period. We recognize that LEAs are not typically responsible for taking to scale their practices, strategies, or programs in other LEAs and States. However, all applicants, including LEAs, can and should partner with others (e.g., State educational agencies) to disseminate and take to scale their effective practices, strategies, and programs.

Peer reviewers will review all eligible Scale-up grant applications. However, if an application does not meet the definition of strong evidence in this notice, the Department will not consider the application for funding.

Successful applicants for Scale-up grants will receive more funding than successful applicants for Validation or Development grants.

(2) Validation grants provide funding to support practices, strategies, or programs that show promise, but for which there is currently only moderate evidence (as defined in this notice) that the proposed practice, strategy, or program will have a statistically significant effect on improving student achievement or student growth, closing achievement gaps, decreasing dropout rates, increasing high school graduation rates, or increasing college enrollment and completion rates and that, with further study, the effect of implementing the proposed practice, strategy, or program may prove to be substantial and important. Thus, applications for Validation grants do not need to have the same level of research evidence to support the proposed project as is required for Scale-up grants. An applicant may also demonstrate success through an intermediate variable strongly correlated with these outcomes, such as teacher or principal effectiveness.

An applicant for a Validation grant must estimate the number of students to be reached by the proposed project and provide evidence of its capacity to reach the proposed number of students during the course of the grant. In addition, an applicant for a Validation grant must provide evidence of its capacity (e.g., in terms of qualified personnel, financial resources, or management capacity) to scale up to a State or regional level, working directly or through partners either during or following the grant period. As noted earlier, we recognize that LEAs are not typically responsible for taking to scale their practices, strategies, or programs in other LEAs and States. However, all applicants, including LEAs, can and should partner with others to disseminate and take to scale their effective practices, strategies, and programs.

Peer reviewers will review all eligible Validation grant applications. However, if an application does not meet the definition of moderate evidence in this notice, the Department will not consider the application for funding.

Successful applicants for Validation grants will receive more funding than successful applicants for Development grants.

(3) Development grants provide funding to support high-potential and relatively untested practices, strategies, or programs whose efficacy should be systematically studied. An applicant must provide evidence that the proposed practice, strategy, or program, or one similar to it, has been attempted previously, albeit on a limited scale or in a limited setting, and yielded promising results that suggest that more formal and systematic study is warranted. An applicant must provide a rationale for the proposed practice, strategy, or program that is based on research findings or reasonable hypotheses, including related research or theories in education and other sectors. Thus, applications for Development grants do not need to provide the same level of evidence to support the proposed project as is required for Validation or Scale-up grants.

An applicant for a Development grant must estimate the number of students to be served by the project, and provide evidence of the applicant's ability to implement and appropriately evaluate the proposed project and, if positive results are obtained, its capacity (e.g., in terms of qualified personnel, financial resources, or management capacity) to further develop and bring the project to a larger scale directly or through partners either during or following the grant period. As noted earlier, we recognize that LEAs are not typically responsible for taking to scale their practices, strategies, or programs. Again, however, all applicants can and should partner with others to disseminate and take to scale their effective practices, strategies, and programs.

Peer reviewers will review all eligible Development grant applications. However, if an application is not supported by a reasonable hypothesis for the proposed project, the Department will not consider the application for funding.

Priorities: These priorities are from the notice of final priorities, requirements, definitions, and selection criteria (NFP) for this program, published elsewhere in this issue of the Federal Register. This notice contains four absolute priorities and four competitive preference priorities that are explained in the following paragraphs.

Absolute Priorities: For FY 2010 and any subsequent year in which we make awards from the list of unfunded applicants from this competition, these priorities are absolute priorities. Under 34 CFR 75.105(c)(3) we consider only applications that address one of these priorities.

Applicants for all types of grants must choose one of the four absolute priorities and address that priority in its application. Applicants will address the selected absolute priority in the project narrative by addressing the Selection Criteria.

These priorities are:

Absolute Priority 1—Innovations That Support Effective Teachers and Principals

Under this priority, the Department provides funding to support practices, strategies, or programs that are designed to increase the number or percentages of teachers or principals who are highly effective teachers or principals or reduce the number or percentages of teachers or principals who are ineffective, especially for teachers of high-need students, by identifying, recruiting, developing, placing, rewarding, and retaining highly effective teachers or principals (or removing ineffective teachers or principals). In such initiatives, teacher or principal effectiveness should be determined through an evaluation system that is rigorous, transparent, and fair; performance should be differentiated using multiple rating categories of effectiveness; multiple measures of effectiveness should be taken into account, with data on student growth as a significant factor; and the measures should be designed and developed with teacher and principal involvement.

Absolute Priority 2—Innovations That Improve the Use of Data

Under this priority, the Department provides funding to support strategies, practices, or programs that are designed to (a) encourage and facilitate the evaluation, analysis, and use of student achievement or student growth data by educators, families, and other stakeholders in order to inform decision-making and improve student achievement, student growth, or teacher, principal, school, or LEA performance and productivity; or (b) enable data aggregation, analysis, and research. Where LEAs and schools are required to do so under the Elementary and Secondary Education Act of 1965, as amended (ESEA), these data must be disaggregated using the student subgroups described in section 1111(b)(3)(C)(xiii) of the ESEA (i.e., economically disadvantaged students, students from major racial and ethnic groups, migrant students, students with limited English proficiency, students with disabilities, and student gender).

Absolute Priority 3—Innovations That Complement the Implementation of High Standards and High-Quality Assessments

Under this priority, the Department provides funding for practices, strategies, or programs that are designed to support States' efforts to transition to standards and assessments that measure students' progress toward college- and career-readiness, including curricular and instructional practices, strategies, or programs in core academic subjects (as defined in section 9101(11) of the ESEA) that are aligned with high academic content and achievement standards and with high-quality assessments based on those standards.¹ Proposed projects may include, but are not limited to, practices, strategies, or programs that are designed to: (a) Increase the success of under-represented student populations in academically rigorous courses and programs (such as Advanced Placement or International Baccalaureate courses; dual-enrollment programs; “early college high schools;” and science, technology, engineering, and mathematics courses, especially those that incorporate rigorous and relevant project-, inquiry-, or design-based contextual learning opportunities); (b) increase the development and use of formative assessments or interim assessments, or other performance-based tools and “metrics” that are aligned with high student content and academic achievement standards; or (c) translate the standards and information from assessments into classroom practices that meet the needs of all students, including high-need students.

¹ Consistent with the Race to the Top Fund, the Department interprets the core academic subject of “science” under section 9101(11) to include STEM education (science, technology, engineering, and mathematics) which encompasses a wide range of disciplines, including science.

Under this priority, an eligible applicant must propose a project that is based on standards that are at least as rigorous as its State's standards. If the proposed project is based on standards other than those adopted by the eligible applicant's State, the applicant must explain how the standards are aligned with and at least as rigorous as the eligible applicant's State's standards as well as how the standards differ.

Absolute Priority 4—Innovations That Turn Around Persistently Low-Performing Schools

Under this priority, the Department provides funding to support strategies, practices, or programs that are designed to turn around schools that are in any of the following categories: (a) Persistently lowest-achieving schools (as defined in the final requirements for the School Improvement Grants program) ²; (b) Title I schools that are in corrective action or restructuring under section 1116 of the ESEA; or (c) secondary schools (both middle and high schools) eligible for but not receiving Title I funds that, if receiving Title I funds, would be in corrective action or restructuring under section 1116 of the ESEA. These schools are referred to as Investing in Innovation Fund Absolute Priority 4 schools.

² Under the final requirements for the School Improvement Grants program, “persistently lowest-achieving schools” means, as determined by the State, (a)(1) any Title I school in improvement, corrective action, or restructuring that (i) is among the lowest-achieving five percent of Title I schools in improvement, corrective action, or restructuring or the lowest-achieving five Title I schools in improvement, corrective action, or restructuring in the State, whichever number of schools is greater; or (ii) is a high school that has had a graduation rate as defined in 34 CFR 200.19(b) that is less than 60 percent over a number of years; and (2) any secondary school that is eligible for, but does not receive, Title I funds that (i) is among the lowest-achieving five percent of secondary schools or the lowest-achieving five secondary schools in the State that are eligible for, but do not receive, Title I funds, whichever number of schools is greater; or (ii) is a high school that has had a graduation rate as defined in 34 CFR 200.19(b) that is less than 60 percent over a number of years. See http://www2.ed.gov/programs/sif/faq.html.

Proposed projects must include strategies, practices, or programs that are designed to turn around Investing in Innovation Fund Absolute Priority 4 schools through either whole-school reform or targeted approaches to reform. Applicants addressing this priority must focus on either:

(a) Whole-school reform, including, but not limited to, comprehensive interventions to assist, augment, or replace Investing in Innovation Fund Absolute Priority 4 schools, including the school turnaround, restart, closure, and transformation models of intervention supported under the Department's School Improvement Grants program (see Final Requirements for School Improvement Grants as Amended in January 2010 (January 28, 2010) at http://www2.ed.gov/programs/sif/faq.html); or

(b) Targeted approaches to reform, including, but not limited to: (1) Providing more time for students to learn core academic content by expanding or augmenting the school day, school week, or school year, or by increasing instructional time for core academic subjects (as defined in section 9101(11) of the ESEA); (2) integrating “student supports” into the school model to address non-academic barriers to student achievement; or (3) creating multiple pathways for students to earn regular high school diplomas (e.g., by operating schools that serve the needs of over-aged, under-credited, or other students with an exceptional need for support and flexibility pertaining to when they attend school; awarding credit based on demonstrated evidence of student competency; and offering dual-enrollment options).

Competitive Preference Priorities: For FY 2010 and any subsequent year in which we make awards from the list of unfunded applicants from this competition, these priorities are competitive preference priorities. Applicants for all types of grants may choose to address one or more of the four competitive preference priorities. Under 34 CFR 75.105(c)(2)(i) we will award points as ”all or nothing” (i.e., one point or zero points) to competitive preference priorities 5, 6, and 7 and up to two points to competitive preference priority 8, depending on how well the application addresses the priority.

These priorities are:

Competitive Preference Priority 5—Innovations for Improving Early Learning Outcomes (Zero or One Point)

We give competitive preference to applications for projects that would implement innovative practices, strategies, or programs that are designed to improve educational outcomes for high-need students who are young children (birth through 3rd grade) by enhancing the quality of early learning programs. To meet this priority, applications must focus on (a) improving young children's school readiness (including social, emotional, and cognitive readiness) so that children are prepared for success in core academic subjects (as defined in section 9101(11) of the ESEA); (b) improving developmental milestones and standards and aligning them with appropriate outcome measures; and (c) improving alignment, collaboration, and transitions between early learning programs that serve children from birth to age three, in preschools, and in kindergarten through third grade.

Competitive Preference Priority 6—Innovations That Support College Access and Success (Zero or One Point)

We give competitive preference to applications for projects that would implement innovative practices, strategies, or programs that are designed to enable kindergarten through grade 12 (K-12) students, particularly high school students, to successfully prepare for, enter, and graduate from a two- or four-year college. To meet this priority, applications must include practices, strategies, or programs for K-12 students that (a) address students' preparedness and expectations related to college; (b) help students understand issues of college affordability and the financial aid and college application processes; and (c) provide support to students from peers and knowledgeable adults.

Competitive Preference Priority 7—Innovations To Address the Unique Learning Needs of Students With Disabilities and Limited English Proficient Students (Zero or One Point)

We give competitive preference to applications for projects that would implement innovative practices, strategies, or programs that are designed to address the unique learning needs of students with disabilities, including those who are assessed based on alternate academic achievement standards, or the linguistic and academic needs of limited English proficient students. To meet this priority, applications must provide for the implementation of particular practices, strategies, or programs that are designed to improve academic outcomes, close achievement gaps, and increase college- and career-readiness, including increasing high school graduation rates (as defined in this notice), for students with disabilities or limited English proficient students.

Competitive Preference Priority 8—Innovations That Serve Schools in Rural LEAs (Up to Two Points)

We give competitive preference to applications for projects that would implement innovative practices, strategies, or programs that are designed to focus on the unique challenges of high-need students in schools within a rural LEA (as defined in this notice) and address the particular challenges faced by students in these schools. To meet this priority, applications must include practices, strategies, or programs that are designed to improve student achievement or student growth, close achievement gaps, decrease dropout rates, increase high school graduation rates, or improve teacher and principal effectiveness in one or more rural LEAs.

Definitions:

The Secretary establishes the following definitions for the Investing in Innovation Fund. We may apply these definitions in any year in which this program is in effect.

Definitions Related to Evidence

Strong evidence means evidence from previous studies whose designs can support causal conclusions (i.e., studies with high internal validity), and studies that in total include enough of the range of participants and settings to support scaling up to the State, regional, or national level (i.e., studies with high external validity). The following are examples of strong evidence: (1) More than one well-designed and well-implemented (as defined in this notice) experimental study (as defined in this notice) or well-designed and well-implemented (as defined in this notice) quasi-experimental study (as defined in this notice) that supports the effectiveness of the practice, strategy, or program; or (2) one large, well-designed and well-implemented (as defined in this notice) randomized controlled, multisite trial that supports the effectiveness of the practice, strategy, or program.

Moderate evidence means evidence from previous studies whose designs can support causal conclusions (i.e., studies with high internal validity) but have limited generalizability (i.e., moderate external validity), or studies with high external validity but moderate internal validity. The following would constitute moderate evidence: (1) At least one well-designed and well-implemented (as defined in this notice) experimental or quasi-experimental study (as defined in this notice) supporting the effectiveness of the practice, strategy, or program, with small sample sizes or other conditions of implementation or analysis that limit generalizability; (2) at least one well-designed and well-implemented (as defined in this notice) experimental or quasi-experimental study (as defined in this notice) that does not demonstrate equivalence between the intervention and comparison groups at program entry but that has no other major flaws related to internal validity; or (3) correlational research with strong statistical controls for selection bias and for discerning the influence of internal factors.

Well-designed and well-implemented means, with respect to an experimental or quasi-experimental study (as defined in this notice), that the study meets the What Works Clearinghouse evidence standards, with or without reservations (see http://ies.ed.gov/ncee/wwc/references/idocviewer/doc.aspx?docid=19&tocid=1 and in particular the description of “Reasons for Not Meeting Standards” at http://ies.ed.gov/ncee/wwc/references/idocviewer/Doc.aspx?docId=19&tocId=4#reasons).

Experimental study means a study that employs random assignment of, for example, students, teachers, classrooms, schools, or districts to participate in a project being evaluated (treatment group) or not to participate in the project (control group). The effect of the project is the average difference in outcomes between the treatment and control groups.

Quasi-experimental study means an evaluation design that attempts to approximate an experimental design and can support causal conclusions (i.e., minimizes threats to internal validity, such as selection bias, or allows them to be modeled). Well-designed quasi-experimental studies include carefully matched comparison group designs (as defined in this notice), interrupted time series designs (as defined in this notice), or regression discontinuity designs (as defined in this notice).

Carefully matched comparison group design means a type of quasi-experimental study that attempts to approximate an experimental study. More specifically, it is a design in which project participants are matched with non-participants based on key characteristics that are thought to be related to the outcome. These characteristics include, but are not limited to: (1) Prior test scores and other measures of academic achievement (preferably, the same measures that the study will use to evaluate outcomes for the two groups); (2) demographic characteristics, such as age, disability, gender, English proficiency, ethnicity, poverty level, parents' educational attainment, and single- or two-parent family background; (3) the time period in which the two groups are studied (e.g., the two groups are children entering kindergarten in the same year as opposed to sequential years); and (4) methods used to collect outcome data (e.g., the same test of reading skills administered in the same way to both groups).

Interrupted time series design ³ means a type of quasi-experimental study in which the outcome of interest is measured multiple times before and after the treatment for program participants only. If the program had an impact, the outcomes after treatment will have a different slope or level from those before treatment. That is, the series should show an “interruption” of the prior situation at the time when the program was implemented. Adding a comparison group time series, such as schools not participating in the program or schools participating in the program in a different geographic area, substantially increases the reliability of the findings.

³ A single subject or single case design is an adaptation of an interrupted time series design that relies on the comparison of treatment effects on a single subject or group of single subjects. There is little confidence that findings based on this design would be the same for other members of the population. In some single subject designs, treatment reversal or multiple baseline designs are used to increase internal validity. In a treatment reversal design, after a pretreatment or baseline outcome measurement is compared with a post treatment measure, the treatment would then be stopped for a period of time, a second baseline measure of the outcome would be taken, followed by a second application of the treatment or a different treatment. A multiple baseline design addresses concerns about the effects of normal development, timing of the treatment, and amount of the treatment with treatment-reversal designs by using a varying time schedule for introduction of the treatment and/or treatments of different lengths or intensity.

Regression discontinuity design study means, in part, a quasi-experimental study design that closely approximates an experimental study. In a regression discontinuity design, participants are assigned to a treatment or comparison group based on a numerical rating or score of a variable unrelated to the treatment such as the rating of an application for funding. Another example would be assignment of eligible students, teachers, classrooms, or schools above a certain score (“cut score”) to the treatment group and assignment of those below the score to the comparison group.

Independent evaluation means that the evaluation is designed and carried out independent of, but in coordination with, any employees of the entities who develop a practice, strategy, or program and are implementing it. This independence helps ensure the objectivity of an evaluation and prevents even the appearance of a conflict of interest.

Other Definitions

Applicant means the entity that applies for a grant under this program on behalf of an eligible applicant (i.e., an LEA or a partnership in accordance with section 14007(a)(1)(B) of the ARRA).

Official partner means any of the entities required to be part of a partnership under section 14007(a)(1)(B) of the ARRA.

Other partner means any entity, other than the applicant and any official partner, that may be involved in a proposed project.

Consortium of schools means two or more public elementary or secondary schools acting collaboratively for the purpose of applying for and implementing an Investing in Innovation Fund grant jointly with an eligible nonprofit organization.

Nonprofit organization means an entity that meets the definition of “nonprofit” under 34 CFR 77.1(c), or an institution of higher education as defined by section 101(a) of the Higher Education Act of 1965, as amended.

Formative assessment means assessment questions, tools, and processes that are embedded in instruction and are used by teachers and students to provide timely feedback for purposes of adjusting instruction to improve learning.

Interim assessment means an assessment that is given at regular and specified intervals throughout the school year, is designed to evaluate students' knowledge and skills relative to a specific set of academic standards, and produces results that can be aggregated (e.g., by course, grade level, school, or LEA) in order to inform teachers and administrators at the student, classroom, school, and LEA levels.

Highly effective principal means a principal whose students, overall and for each subgroup as described in section 1111(b)(3)(C)(xiii) of the ESEA (i.e., economically disadvantaged students, students from major racial and ethnic groups, migrant students, students with disabilities, students with limited English proficiency, and students of each gender), achieve high rates (e.g., one and one-half grade levels in an academic year) of student growth. Eligible applicants may include multiple measures, provided that principal effectiveness is evaluated, in significant part, based on student growth. Supplemental measures may include, for example, high school graduation rates; college enrollment rates; evidence of providing supportive teaching and learning conditions, support for ensuring effective instruction across subject areas for a well-rounded education, strong instructional leadership, and positive family and community engagement; or evidence of attracting, developing, and retaining high numbers of effective teachers.

Highly effective teacher means a teacher whose students achieve high rates (e.g., one and one-half grade levels in an academic year) of student growth. Eligible applicants may include multiple measures, provided that teacher effectiveness is evaluated, in significant part, based on student growth. Supplemental measures may include, for example, multiple observation-based assessments of teacher performance or evidence of leadership roles (which may include mentoring or leading professional learning communities) that increase the effectiveness of other teachers in the school or LEA.

High-need student means a student at risk of educational failure, or otherwise in need of special assistance and support, such as students who are living in poverty, who attend high-minority schools, who are far below grade level, who are over-age and under-credited, who have left school before receiving a regular high school diploma, who are at risk of not graduating with a regular high school diploma on time, who are homeless, who are in foster care, who have been incarcerated, who have disabilities, or who are limited English proficient.

National level, as used in reference to a Scale-up grant, describes a project that is able to be effective in a wide variety of communities and student populations around the country, including rural and urban areas, as well as with the different groups of students described in section 1111(b)(3)(C)(xiii) of the ESEA (i.e., economically disadvantaged students, students from major racial and ethnic groups, migrant students, students with disabilities, students with limited English proficiency, and students of each gender).

Regional level, as used in reference to a Scale-up or Validation grant, describes a project that is able to serve a variety of communities and student populations within a State or multiple States, including rural and urban areas, as well as with the different groups of students described in section 1111(b)(3)(C)(xiii) of the ESEA (i.e., economically disadvantaged students, students from major racial and ethnic groups, migrant students, students with disabilities, students with limited English proficiency, and students of each gender). To be considered a regional-level project, a project must serve students in more than one LEA. The exception to this requirement would be a project implemented in a State in which the State educational agency is the sole educational agency for all schools and thus may be considered an LEA under section 9101(26) of the ESEA. Such a State would meet the definition of regional for the purposes of this notice.

Rural LEA means an LEA that is eligible under the Small Rural School Achievement (SRSA) program or the Rural and Low-Income School (RLIS) program authorized under Title VI, Part B of the ESEA. Eligible applicants may determine whether a particular LEA is eligible for these programs by referring to information on the following Department Web sites. For the SRSA: http://www.ed.gov/programs/reapsrsa/eligible09/index.html. For the RLIS: http://www.ed.gov/programs/reaprlisp/eligibility.html.

Student achievement means—

(a) For tested grades and subjects: (1) A student's score on the State's assessments under section 1111(b)(3) of the ESEA; and, as appropriate, (2) other measures of student learning, such as those described in paragraph (b) of this definition, provided they are rigorous and comparable across classrooms; and

(b) For non-tested grades and subjects: alternative measures of student learning and performance such as student scores on pre-tests and end-of-course tests; student performance on English language proficiency assessments; and other measures of student achievement that are rigorous and comparable across classrooms.

Student growth means the change in student achievement data for an individual student between two or more points in time. Growth may be measured by a variety of approaches, but any approach used must be statistically rigorous and based on student achievement data, and may also include other measures of student learning in order to increase the construct validity and generalizability of the information.

High school graduation rate means a four-year adjusted cohort graduation rate consistent with 34 CFR 200.19(b)(1) and may also include an extended-year adjusted cohort graduation rate consistent with 34 CFR 200.19(b)(1)(v) if the State in which the proposed project is implemented has been approved by the Secretary to use such a rate under Title I of the ESEA.

Regular high school diploma means, consistent with 34 CFR 200.19(b)(1)(iv), the standard high school diploma that is awarded to students in the State and that is fully aligned with the State's academic content standards or a higher diploma and does not include a General Education Development (GED) credential, certificate of attendance, or any alternative award.

Program Authority: Section 14007 of title XIV of the ARRA, Pub. L. 111-5 as amended by section 307 of division D of Pub. L. 111-117 (H.R. 3288), the Consolidated Appropriations Act, 2010.

Applicable Regulations: (a) The Education Department General Administrative Regulations (EDGAR) in 34 CFR parts 74, 75, 77, 79, 80, 81, 82, 84, 85, 86, 97, 98, and 99.

(b) The notice of final priorities, requirements, definitions, and selection criteria (NFP) for this program, published elsewhere in this issue of the Federal Register.

Note: The regulations in 34 CFR part 79 apply to all applicants except federally recognized Indian tribes.

Note: The regulations in 34 CFR part 86 apply to institutions of higher education only.

II. Award Information

Types of Award: Cooperative agreements (for Scale-up grants) and discretionary grants (for Validation grants and Development grants).

Estimated Available Funds: $643,500,000.

Contingent upon the availability of funds and the quality of applications, we may make additional awards in FY 2011 from the list of unfunded applicants from this competition.

Estimated Range of Awards:

Scale-up grants: Up to $50,000,000.

Validation grants: Up to $30,000,000.

Development grants: Up to $5,000,000.

Estimated Average Size of Awards:

Scale-up grants: $40,000,000.

Validation grants: $17,500,000.

Development grants: $3,000,000.

Estimated Number of Awards:

Scale-up grants: Up to 5 awards.

Validation grants: Up to 100 awards.

Development grants: Up to 100 awards.

Note: The Department is not bound by any estimates in this notice.

Project Period: 36-60 months.

III. Eligibility Information and Program Requirements

The Secretary establishes the following requirements for the Investing in Innovation Fund. We may apply these requirements in any year in which this program is in effect.

• Providing Innovations That Improve Achievement for High-Need Students: All eligible applicants must implement practices, strategies, or programs for high-need students (as defined in this notice).

• Eligible Applicants: Entities eligible to apply for Investing in Innovation Fund grants include: (a) An LEA or (b) a partnership between a nonprofit organization and (1) one or more LEAs or (2) a consortium of schools. An eligible applicant that is a partnership applying under section 14007(a)(1)(B) of the ARRA must designate one of its official partners (as defined in this notice) to serve as the applicant in accordance with the Department's regulations governing group applications in 34 CFR 75.127 through 75.129.

• Eligibility Requirements: To be eligible for an award, an eligible applicant must—except as specifically set forth in the Note About Eligibility for an Eligible Applicant That Includes a Nonprofit Organization that follows:

(1)(A) Have significantly closed the achievement gaps between groups of students described in section 1111(b)(2) of the ESEA (economically disadvantaged students, students from major racial and ethnic groups, students with limited English proficiency, students with disabilities); or

(B) Have demonstrated success in significantly increasing student academic achievement for all groups of students described in that section;

(2) Have made significant improvements in other areas, such as graduation rates or increased recruitment and placement of high-quality teachers and principals, as demonstrated with meaningful data;

(3) Demonstrate that it has established one or more partnerships with the private sector, which may include philanthropic organizations, and that the private sector will provide matching funds in order to help bring results to scale; and

(4) In the case of an eligible applicant that includes a nonprofit organization, provide in the application the names of the LEAs with which the nonprofit organization will partner, or the names of the schools in the consortium with which it will partner. If an eligible applicant that includes a nonprofit organization intends to partner with additional LEAs or schools that are not named in the application, it must describe in the application the demographic and other characteristics of these LEAs and schools and the process it will use to select them as either official or other partners. An applicant must identify its specific partners before a grant award will be made.

Note About LEA Eligibility: For purposes of this program, an LEA is an LEA located within one of the 50 States, the District of Columbia, or the Commonwealth of Puerto Rico.

Note about Eligibility for an Eligible Applicant that Includes a Nonprofit Organization: The authorizing statute (as amended) specifies that an eligible applicant that includes a nonprofit organization is considered to have met the requirements in paragraphs (1) and (2) of the eligibility requirements for this program if the nonprofit organization has a record of significantly improving student achievement, attainment, or retention. For an eligible applicant that includes a nonprofit organization, the nonprofit organization must demonstrate that it has a record of significantly improving student achievement, attainment, or retention through its record of work with an LEA or schools. Therefore, an eligible applicant that includes a nonprofit organization does not necessarily need to include as a partner for its Investing in Innovation Fund grant an LEA or a consortium of schools that meets the requirements in paragraphs (1) and (2).

In addition, the authorizing statute (as amended) specifies that an eligible applicant that includes a nonprofit organization is considered to have met the requirements of paragraph (3) of the eligibility requirements for this program if the eligible applicant demonstrates that it will meet the requirement relating to private-sector matching.

• Evidence Standards: To be eligible for an award, an application for a Scale-up grant must be supported by strong evidence (as defined in this notice), an application for a Validation grant must be supported by moderate evidence (as defined in this notice), and an application for a Development grant must be supported by a reasonable hypothesis.

• Funding Categories: An applicant must state in its application whether it is applying for a Scale-up, Validation, or Development grant. An applicant may not submit an application for the same proposed project under more than one type of grant. An applicant will be considered for an award only for the type of grant for which it applies.

• Cost Sharing or Matching: To be eligible for an award, an eligible applicant must demonstrate that it has established one or more partnerships with an entity or organization in the private sector, which may include philanthropic organizations, and that the entity or organization in the private sector will provide matching funds in order to help bring project results to scale. An eligible applicant must obtain matching funds or in-kind donations equal to at least 20 percent of its grant award. Selected eligible applicants must submit evidence of the full 20 percent private-sector matching funds following the peer review of applications. An award will not be made unless the applicant provides adequate evidence that the full 20 percent private-sector match has been committed or the Secretary approves the eligible applicant's request to reduce the matching-level requirement.

The Secretary may consider decreasing the 20 percent matching requirement in the most exceptional circumstances, on a case-by-case basis. An eligible applicant that anticipates being unable to meet the 20 percent matching requirement must include in the application a request to the Secretary to reduce the matching-level requirement, along with a statement of the basis for the request.

• Subgrants: In the case of an eligible applicant that is a partnership between a nonprofit organization and (1) one or more LEAs or (2) a consortium of schools, the partner serving as the applicant may make subgrants to one or more official partners (as defined in this notice).

• Limits on Grant Awards: No grantee may receive more than two grant awards under this program. In addition, no grantee may receive more than $55 million in grant awards under this program in a single year's competition.

• Evaluation: A grantee must comply with the requirements of any evaluation of the program conducted by the Department. In addition, the grantee is required to conduct an independent evaluation (as defined in this notice) of its project and must agree, along with its independent evaluator, to cooperate with any technical assistance provided by the Department or its contractor. The purpose of this technical assistance will be to ensure that the evaluations are of the highest quality and to encourage commonality in evaluation approaches across funded projects where such commonality is feasible and useful. Finally, the grantee must make broadly available through formal (e.g., peer-reviewed journals) or informal (e.g., newsletters) mechanisms, and in print or electronically, the results of any evaluations it conducts of its funded activities. For Scale-up and Validation grants, the grantee must also ensure the data from their evaluations are made available to third-party researchers consistent with applicable privacy requirements.

• Participation in “Communities of Practice”: Grantees are required to participate in, organize, or facilitate, as appropriate, communities of practice for the Investing in Innovation Fund. A community of practice is a group of grantees that agrees to interact regularly to solve a persistent problem or improve practice in an area that is important to them. Establishment of communities of practice under the Investing in Innovation Fund will enable grantees to meet, discuss, and collaborate with each other regarding grantee projects.

IV. Application and Submission Information

1. Submission of Proprietary Information:

Given the types of projects that may be proposed in applications for the Investing in Innovation Fund, some applications may include proprietary information as it relates to confidential commercial information. Confidential commercial information is defined as information the disclosure of which could reasonably be expected to cause substantial competitive harm. Upon submission, applicants should identify any information contained in their application that they consider to be confidential commercial information. Doing so will assist the Department in making any future determination regarding public release of the application. Applicants are encouraged to identify only the specific information that the applicant considers to be proprietary and list the page numbers on which this information can be found in the appropriate Appendix section of their application. In addition to identifying the page number on which that information can be found, eligible applicants will assist the Department in making determinations on public release of the application by being as specific as possible in identifying the information they consider proprietary. Please note that, in many instances, identification of entire pages of documentation would not be appropriate.

2. Address to Request Application Package:

ED Pubs, U.S. Department of Education, P.O. Box 22207, Alexandria, VA 22304. Telephone, toll free: 1-877-433-7827. FAX: (703) 605-6794. If you use a telecommunications device for the deaf (TDD), call, toll free: 1-877-576-7734.

You can contact ED Pubs at its Web site, also: http://www.EDPubs.ed.gov or at its e-mail address: edpubs@inet.ed.gov.

If you request an application package from ED Pubs, be sure to identify this program or competition as follows: CFDA numbers 84.396A, 84.396B, or 84.396C.

Also, you can download the application package at the i3 Web site: http://www2.ed.gov/programs/innovation/index.html.

Individuals with disabilities can obtain a copy of the application package in an accessible format (e.g., braille, large print, audiotape, or computer diskette) by calling the program contact number or by writing to the e-mail address listed under Accessible Format in section VIII of this notice.

3. Content and Form of Application Submission: Requirements concerning the content of an application, together with the forms you must submit, are in the application package for this competition.

Notice of Intent to Apply: April 1, 2010.

We will be able to develop a more efficient process for reviewing grant applications if we understand the number of applicants that intend to apply for funding under this competition. Therefore, the Secretary strongly encourages each potential applicant to notify us of the applicant's intent to submit an application for funding by sending a short e-mail message. This short e-mail should provide (1) the applicant organization's name and address, (2) the type of grant for which the applicant intends to apply, (3) the one absolute priority the applicant intends to address, and (4) all competitive preference priorities the applicant intends to address. The Secretary requests that this e-mail be sent to i3intent@ed.gov with “Intent to Apply” in the e-mail subject line. Applicants that do not provide this e-mail notification may still apply for funding.

Page Limit: The application narrative (Part III of the application) is where you, the applicant, address the selection criteria that reviewers use to evaluate your application. Applicants are strongly encouraged to limit the application narrative (Part III) to not more than the following page limits: Scale-up grants—50 pages, Validation grants—35 pages, and Development grants—25 pages. Applicants are also strongly encouraged not to include lengthy appendices that contain information that could not be included in the narrative. Applications should use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The suggested page limit does not apply to Part I, the cover sheet; Part II, the budget section, including the narrative budget justification; Part IV, the assurances and certifications; or the one-page abstract, the resumes, the bibliography, or the letters of support. However, the suggested page limit does apply to all of the application narrative section [Part III].

4. Submission Dates and Times:

Applications Available: March 12, 2010.

Deadline for Notice of Intent to Apply: April 1, 2010.

Deadline for Transmittal of Applications: May 11, 2010.

Dates of Pre-Application Workshops: March 19, 2010, in Baltimore, Maryland; March 24, 2010, in Denver, Colorado; and March 30, 2010, in Atlanta, Georgia.

These pre-application workshops are designed to provide technical assistance to interested applicants for all three types of grants. Detailed information regarding the pre-application workshop locations and times, along with the on-line registration form, can be found on the Investing in Innovation Fund website at http://www2.ed.gov/programs/innovation/index.html.

Applications for grants under this competition must be submitted electronically using the Electronic Grant Application System (e-Application) accessible through the Department's e-Grants site. For information (including dates and times) about how to submit your application electronically, or in paper format by mail or hand delivery if you qualify for an exception to the electronic submission requirement, please refer to section IV.7. Other Submission Requirements of this notice.

We do not consider an application that does not comply with the deadline requirements.

Individuals with disabilities who need an accommodation or auxiliary aid in connection with the application process should call the program contact number or write to the e-mail address listed under For Further Information Contact in section VII of this notice. If the Department provides an accommodation or auxiliary aid to an individual with a disability in connection with the application process, the individual's application remains subject to all other requirements and limitations in this notice.

Deadline for Intergovernmental Review: July 12, 2010.

5. Intergovernmental Review: This competition is subject to Executive Order 12372 and the regulations in 34 CFR part 79. Information about Intergovernmental Review of Federal Programs under Executive Order 12372 is in the application package for this competition.

6. Funding Restrictions: We reference regulations outlining funding restrictions in the Applicable Regulations section of this notice.

7. Other Submission Requirements:

Applications for grants under this program competition must be submitted electronically unless you qualify for an exception to this requirement in accordance with the instructions in this section.

a. Electronic Submission of Applications.

Applications for grants under the Investing in Innovation Fund—CFDA Numbers 84.396A, 84.396B, and 84.396C must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30 p.m., Washington, DC time, on the application deadline date. E-Application will not accept an application for this competition after 4:30 p.m., Washington, DC time, on the application deadline date. Therefore, we strongly recommend that you do not wait until the application deadline date to begin the application process.

• The hours of operation of the e-Grants Web site are 6 a.m. Monday until 7 p.m. Wednesday; and 6 a.m. Thursday until 8 p.m. Sunday, Washington, DC time. Please note that, because of maintenance, the system is unavailable between 8 p.m. on Sundays and 6 a.m. on Mondays, and between 7 p.m. on Wednesdays and 6 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2)(a) E-Application is unavailable for 60 minutes or more between the hours of 8:30 a.m. and 3:30 p.m., Washington, DC time, on the application deadline date; or

(b) E-Application is unavailable for any period of time between 3:30 p.m. and 4:30 p.m., Washington, DC, time, on the application deadline date.

We must acknowledge and confirm these periods of unavailability before granting you an extension. To request this extension or to confirm our acknowledgment of any system unavailability, you may contact either (1) the program contact number or write to the e-mail address listed elsewhere in this notice under For Further Information Contact (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because—

• You do not have access to the Internet; or

• You do not have the capacity to upload large documents to e-Application; and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Thelma Leenhouts, U.S. Department of Education, 400 Maryland Avenue, SW., Room 4W302, Washington, DC 20202-5900. FAX: (202) 401-4123.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Numbers 84.396A, 84.396B, or 84.396C), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Numbers 84.396A, 84.396B, or 84.396C), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this competition are from the notice of final priorities, requirements, definitions, and selection criteria, for this program, published elsewhere in this issue of the Federal Register. We may apply these selection criteria in any year in which this program is in effect. The peer review process is explained in detail in the Review and Selection Process section of this notice.

The selection criteria are as follows. The points assigned to each criterion are indicated in parentheses next to the criterion. For each type of grant, applicants may earn up to a total of 100 points.

1. Scale-up Grants.

A. Need for the Project and Quality of the Project Design (up to 15 points).

The Secretary considers the need for the project and quality of the design of the proposed project.

In determining the need for the project and quality of the design of the proposed project, the Secretary considers the following factors:

(1) The extent to which the proposed project represents an exceptional approach to the priorities the eligible applicant is seeking to meet (i.e., addresses a largely unmet need, particularly for high-need students, and is a practice, strategy, or program that has not already been widely adopted).

(2) The extent to which the proposed project has a clear set of goals and an explicit strategy, with actions that are (a) aligned with the priorities the eligible applicant is seeking to meet, and (b) expected to result in achieving the goals, objectives, and outcomes of the proposed project.

B. Strength of Research, Significance of Effect, and Magnitude of Effect (up to 20 points).

The Secretary considers the strength of the existing research evidence,⁴ including the internal validity (strength of causal conclusions) and external validity (generalizability) of the effects reported in prior research, on whether the proposed project will improve student achievement or student growth, close achievement gaps, decrease dropout rates, increase high school graduation rates, or increase college enrollment and completion rates. Eligible applicants may also demonstrate success through an intermediate variable that is strongly correlated with improving these outcomes, such as teacher or principal effectiveness.

⁴ For additional information on the evidence for Scale-up grants, see Table 1 later in this section.

In determining the strength of the existing research evidence, the Secretary considers the following factors:

(1) The extent to which the eligible applicant demonstrates that there is strong evidence (as defined in this notice) that its implementation of the proposed practice, strategy, or program will have a statistically significant, substantial, and important effect on improving student achievement or student growth, closing achievement gaps, decreasing dropout rates, increasing high school graduation rates, or increasing college enrollment and completion rates.

(2) The importance and magnitude of the effect expected to be obtained by the proposed project, including the extent to which the project will substantially and measurably improve student achievement or student growth, close achievement gaps, decrease dropout rates, increase high school graduation rates, or increase college enrollment and completion rates. The evidence in support of the importance and magnitude of the effect would be the research-based evidence provided by the eligible applicant to support the proposed project.

C. Experience of the Eligible Applicant (up to 15 points).

The Secretary considers the experience of the eligible applicant in implementing the proposed project.

In determining the experience of the eligible applicant, the Secretary considers the following factors:

(1) The past performance of the eligible applicant in implementing large, complex, and rapidly growing projects.

(2) The extent to which an eligible applicant provides information and data demonstrating that—

(a) In the case of an eligible applicant that is an LEA, the LEA has—

(i) Significantly closed the achievement gaps between groups of students described in section 1111(b)(2) of the ESEA, or significantly increased student achievement for all groups of students described in such section; and

(ii) Made significant improvements in other areas, such as graduation rates or increased recruitment and placement of high-quality teachers and principals, as demonstrated with meaningful data; or

(b) In the case of an eligible applicant that includes a nonprofit organization, the nonprofit organization has significantly improved student achievement, attainment, or retention through its record of work with an LEA or schools.

D. Quality of the Project Evaluation (up to 15 points).

The Secretary considers the quality of the evaluation to be conducted of the proposed project.

In determining the quality of the evaluation, the Secretary considers the following factors:

(1) The extent to which the methods of evaluation will include a well-designed experimental study or, if a well-designed experimental study of the project is not possible, the extent to which the methods of evaluation will include a well-designed quasi-experimental study.

(2) The extent to which, for either an experimental study or a quasi-experimental study, the study will be conducted of the practice, strategy, or program as implemented at scale.

(3) The extent to which the methods of evaluation will provide high-quality implementation data and performance feedback, and permit periodic assessment of progress toward achieving intended outcomes.

(4) The extent to which the evaluation will provide sufficient information about the key elements and approach of the project so as to facilitate replication or testing in other settings.

(5) The extent to which the proposed project plan includes sufficient resources to carry out the project evaluation effectively.

(6) The extent to which the proposed evaluation is rigorous, independent, and neither the program developer nor the project implementer will evaluate the impact of the project.

Note: We encourage eligible applicants to review the following technical assistance resources on evaluation: (1) What Works Clearinghouse Procedures and Standards Handbook: http://ies.ed.gov/ncee/wwc/references/idocviewer/doc.aspx?docid=19&tocid=1; and (2) IES/NCEE Technical Methods papers: http://ies.ed.gov/ncee/tech_methods/.

E. Strategy and Capacity to Bring to Scale (up to 15 points).

The Secretary considers the quality of the eligible applicant's strategy and capacity to bring the proposed project to scale on a national, regional, or State level.

In determining the quality of the strategy and capacity to bring the proposed project to scale, the Secretary considers:

(1) The number of students proposed to be reached by the proposed project and the capacity of the eligible applicant and any other partners to reach the proposed number of students during the course of the grant period.

(2) The eligible applicant's capacity (e.g., in terms of qualified personnel, financial resources, or management capacity) to bring the proposed project to scale on a national, regional, or State level working directly, or through partners, either during or following the end of the grant period.

(3) The feasibility of the proposed project to be replicated successfully, if positive results are obtained, in a variety of settings and with a variety of student populations. Evidence of this ability includes the proposed project's demonstrated success in multiple settings and with different types of students, the availability of resources and expertise required for implementing the project with fidelity, and the proposed project's evidence of relative ease of use or user satisfaction.

(4) The eligible applicant's estimate of the cost of the proposed project, which includes the start-up and operating costs per student per year (including indirect costs) for reaching the total number of students proposed to be served by the project. The eligible applicant must include an estimate of the costs for the eligible applicant or others (including other partners) to reach 100,000, 500,000, and 1,000,000 students.

(5) The mechanisms the eligible applicant will use to broadly disseminate information on its project so as to support replication.

F. Sustainability (up to 10 points).

The Secretary considers the adequacy of resources to continue the proposed project after the grant period ends.

In determining the adequacy of resources for the proposed project, the Secretary considers the following factors:

(1) The extent to which the eligible applicant demonstrates that it has the resources to operate the project beyond the length of the Scale-up grant, including a multi-year financial and operating model and accompanying plan; the demonstrated commitment of any other partners; and evidence of broad support from stakeholders (e.g., State educational agencies, teachers' unions) critical to the project's long-term success.

(2) The potential and planning for the incorporation of project purposes, activities, or benefits into the ongoing work of the eligible applicant and any other partners at the end of the Scale-up grant.

G. Quality of the Management Plan and Personnel (up to 10 points).

The Secretary considers the quality of the management plan and personnel for the proposed project.

In determining the quality of the management plan and personnel for the proposed project, the Secretary considers:

(1) The adequacy of the management plan to achieve the objectives of the proposed project on time and within budget, including clearly defined responsibilities, timelines, and milestones for accomplishing project tasks, as well as tasks related to the sustainability and scalability of the proposed project.

(2) The qualifications, including relevant training and experience, of the project director and key project personnel, especially in managing large, complex, and rapidly growing projects.

(3) The qualifications, including relevant expertise and experience, of the project director and key personnel of the independent evaluator, especially in designing and conducting large-scale experimental and quasi-experimental studies of educational initiatives.

2. Validation Grants.

A. Need for the Project and Quality of the Project Design (up to 20 points).

The Secretary considers the need for the project and quality of the design of the proposed project.

In determining the need for the project and quality of the design of the proposed project, the Secretary considers the following factors:

(1) The extent to which the proposed project represents an exceptional approach to the priorities the eligible applicant is seeking to meet (i.e., addresses a largely unmet need, particularly for high-need students, and is a practice, strategy, or program that has not already been widely adopted).

(2) The extent to which the proposed project has a clear set of goals and an explicit strategy, with actions that are (a) aligned with the priorities the eligible applicant is seeking to meet, and (b) expected to result in achieving the goals, objectives, and outcomes of the proposed project.

(3) The extent to which the proposed project is consistent with the research evidence supporting the proposed project, taking into consideration any differences in context.

B. Strength of Research, Significance of Effect, and Magnitude of Effect (up to 15 points).

The Secretary considers the strength of the existing research evidence, including the internal validity (strength of causal conclusions) and external validity (generalizability) of the effects reported in prior research, on whether the proposed project will improve student achievement or student growth, close achievement gaps, decrease dropout rates, increase high school graduation rates, or increase college enrollment and completion rates. Eligible applicants may also demonstrate success through an intermediate variable that is strongly correlated with improving these outcomes, such as teacher or principal effectiveness.

In determining the strength of the existing research evidence,⁵ the Secretary considers the following factors:

⁵ For additional information on the evidence for Validation grants, see Table 1 later in this section.

(1) The extent to which the eligible applicant demonstrates that there is moderate evidence (as defined in this notice) that the proposed practice, strategy, or program will have a statistically significant, substantial, and important effect on improving student achievement or student growth, closing achievement gaps, decreasing dropout rates, increasing high school graduation rates, or increasing college enrollment and completion rates.

(2) The importance and magnitude of the effect expected to be obtained by the proposed project, including the likelihood that the project will substantially and measurably improve student achievement or student growth, close achievement gaps, decrease dropout rates, increase high school graduation rates, or increase college enrollment and completion rates. The evidence in support of the importance and magnitude of the effect would be the research-based evidence provided by the eligible applicant to support the proposed project.

C. Experience of the Eligible Applicant (up to 20 points).

The Secretary considers the experience of the eligible applicant in implementing the proposed project.

In determining the experience of the eligible applicant, the Secretary considers the following factors:

(1) The past performance of the eligible applicant in implementing complex projects.

(2) The extent to which an eligible applicant provides information and data demonstrating that—

(a) In the case of an eligible applicant that is an LEA, the LEA has—

(i) Significantly closed the achievement gaps between groups of students described in section 1111(b)(2) of the ESEA, or significantly increased student achievement for all groups of students described in such section; and

(ii) Made significant improvements in other areas, such as graduation rates or increased recruitment and placement of high-quality teachers and principals, as demonstrated with meaningful data; or

(b) In the case of an eligible applicant that includes a nonprofit organization, the nonprofit organization has significantly improved student achievement, attainment, or retention through its record of work with an LEA or schools.

D. Quality of the Project Evaluation (up to 15 points).

The Secretary considers the quality of the evaluation to be conducted of the proposed project.

In determining the quality of the evaluation, the Secretary considers the following factors:

(1) The extent to which the methods of evaluation will include a well-designed experimental study or well-designed quasi-experimental study.

(2) The extent to which the methods of evaluation will provide high-quality implementation data and performance feedback, and permit periodic assessment of progress toward achieving intended outcomes.

(3) The extent to which the evaluation will provide sufficient information about the key elements and approach of the project so as to facilitate replication or testing in other settings.

(4) The extent to which the proposed project plan includes sufficient resources to carry out the project evaluation effectively.

(5) The extent to which the proposed evaluation is rigorous, independent, and neither the program developer nor the project implementer will evaluate the impact of the project.

Note: We encourage eligible applicants to review the following technical assistance resources on evaluation: (1) What Works Clearinghouse Procedures and Standards Handbook: http://ies.ed.gov/ncee/wwc/references/idocviewer/doc.aspx?docid=19&tocid=1; and (2) IES/NCES Technical Methods papers: http://ies.ed.gov/ncee/tech_methods/.

E. Strategy and Capacity to Bring to Scale (up to 10 points).

The Secretary considers the quality of the eligible applicant's strategy and capacity to bring the proposed project to scale on a State or regional level.

In determining the quality of the strategy and capacity to bring the proposed project to scale, the Secretary considers:

(1) The number of students proposed to be reached by the proposed project and the capacity of the eligible applicant and any other partners to reach the proposed number of students during the course of the grant period.

(2) The eligible applicant's capacity (e.g., in terms of qualified personnel, financial resources, or management capacity) to bring the proposed project to scale on a State or regional level (as appropriate, based on the results of the proposed project) working directly, or through other partners, either during or following the end of the grant period.

(3) The feasibility of the proposed project to be replicated successfully, if positive results are obtained, in a variety of settings and with a variety of student populations. Evidence of this ability includes the availability of resources and expertise required for implementing the project with fidelity, and the proposed project's evidence of relative ease of use or user satisfaction.

(4) The eligible applicant's estimate of the cost of the proposed project, which includes the start-up and operating costs per student per year (including indirect costs) for reaching the total number of students proposed to be served by the project. The eligible applicant must include an estimate of the costs for the eligible applicant or others (including other partners) to reach 100,000, 250,000, and 500,000 students.

(5) The mechanisms the eligible applicant will use to broadly disseminate information on its project to support further development, expansion, or replication.

F. Sustainability (up to 10 points).

The Secretary considers the adequacy of resources to continue to develop the proposed project.

In determining the adequacy of resources for the proposed project, the Secretary considers the following factors:

(1) The extent to which the eligible applicant demonstrates that it has the resources, as well as the support of stakeholders (e.g., State educational agencies, teachers' unions), to operate the project beyond the length of the Validation grant.

(2) The potential and planning for the incorporation of project purposes, activities, or benefits into the ongoing work of the eligible applicant and any other partners at the end of the Validation grant.

G. Quality of the Management Plan and Personnel (up to 10 points).

The Secretary considers the quality of the management plan and personnel for the proposed project.

In determining the quality of the management plan and personnel for the proposed project, the Secretary considers:

(1) The adequacy of the management plan to achieve the objectives of the proposed project on time and within budget, including clearly defined responsibilities, timelines, and milestones for accomplishing project tasks, as well as tasks related to the sustainability and scalability of the proposed project.

(2) The qualifications, including relevant training and experience, of the project director and key project personnel, especially in managing complex projects.

(3) The qualifications, including relevant expertise and experience, of the project director and key personnel of the independent evaluator, especially in designing and conducting experimental and quasi-experimental studies of educational initiatives.

3. Development Grants.

A. Need for the Project and Quality of the Project Design (up to 25 points).

The Secretary considers the need for the project and quality of the design of the proposed project.

In determining the need for the project and quality of the design of the proposed project, the Secretary considers the following factors:

(1) The extent to which the proposed project represents an exceptional approach to the priorities the eligible applicant is seeking to meet (i.e., addresses a largely unmet need, particularly for high-need students, and is a practice, strategy, or program that has not already been widely adopted).

(2) The extent to which the proposed project has a clear set of goals and an explicit strategy, with the goals, objectives, and outcomes to be achieved by the proposed project clearly specified and measurable and linked to the priorities the eligible applicant is seeking to meet.

B. Strength of Research, Significance of Effect, and Magnitude of Effect (up to 10 points).

The Secretary considers the strength of the existing research evidence,⁶ including reported practice, theoretical considerations, and the significance and magnitude of any effects reported in prior research, on whether the proposed project will improve student achievement or student growth, close achievement gaps, decrease dropout rates, increase high school graduation rates, or increase college enrollment and completion rates. Eligible applicants may also demonstrate success through an intermediate variable that is strongly correlated with improving these outcomes, such as teacher or principal effectiveness.

⁶ For additional information on the evidence for Development grants, see Table 1 later in this section.

In determining the strength of the existing research evidence, the Secretary considers the following factors:

(1) The extent to which the eligible applicant demonstrates that there are research-based findings or reasonable hypotheses that support the proposed project, including related research in education and other sectors.

(2) The extent to which the proposed project has been attempted previously, albeit on a limited scale or in a limited setting, with promising results that suggest that more formal and systematic study is warranted.

(3) The extent to which the eligible applicant demonstrates that, if funded, the proposed project likely will have a positive impact, as measured by the importance or magnitude of the effect, on improving student achievement or student growth, closing achievement gaps, decreasing dropout rates, increasing high school graduation rates, or increasing college enrollment and completion rates.

C. Experience of the Eligible Applicant (up to 25 points).

The Secretary considers the experience of the eligible applicant in implementing the proposed project or a similar project.

In determining the experience of the eligible applicant, the Secretary considers the following factors:

(1) The past performance of the eligible applicant in implementing projects of the size and scope proposed by the eligible applicant.

(2) The extent to which an eligible applicant provides information and data demonstrating that—

(a) In the case of an eligible applicant that is an LEA, the LEA has—

(i) Significantly closed the achievement gaps between groups of students described in section 1111(b)(2) of the ESEA, or significantly increased student achievement for all groups of students described in such section; and

(ii) Made significant improvements in other areas, such as graduation rates or increased recruitment and placement of high-quality teachers and principals, as demonstrated with meaningful data; or

(b) In the case of an eligible applicant that includes a nonprofit organization, the nonprofit organization has significantly improved student achievement, attainment, or retention through its record of work with an LEA or schools.

D. Quality of the Project Evaluation (up to 15 points).

The Secretary considers the quality of the evaluation to be conducted of the proposed project.

In determining the quality of the evaluation, the Secretary considers the following factors.

(1) The extent to which the methods of evaluation are appropriate to the size and scope of the proposed project.

(2) The extent to which the methods of evaluation will provide high-quality implementation data and performance feedback, and permit periodic assessment of progress toward achieving intended outcomes.

(3) The extent to which the evaluation will provide sufficient information about the key elements and approach of the project to facilitate further development, replication, or testing in other settings.

(4) The extent to which the proposed project plan includes sufficient resources to carry out the project evaluation effectively.

Note: We encourage eligible applicants to review the following technical assistance resources on evaluation: (1) What Works Clearinghouse Procedures and Standards Handbook: http://ies.ed.gov/ncee/wwc/references/idocviewer/doc.aspx?docid=19&tocid=1; and (2) IES/NCEE Technical Methods papers: http://ies.ed.gov/ncee/tech_methods/.

E. Strategy and Capacity to Further Develop and Bring to Scale (up to 5 points).

The Secretary considers the quality of the eligible applicant's strategy and capacity to further develop and bring to scale the proposed project.

In determining the quality of the strategy and capacity to further develop and bring to scale the proposed project, the Secretary considers:

(1) The number of students proposed to be reached by the proposed project and the capacity of the eligible applicant and any other partners to reach the proposed number of students during the course of the grant period.

(2) The eligible applicant's capacity (e.g., in terms of qualified personnel, financial resources, or management capacity) to further develop and bring to scale the proposed practice, strategy, or program, or to work with others (including other partners) to ensure that the proposed practice, strategy, or program can be further developed and brought to scale, based on the findings of the proposed project.

(3) The feasibility of the proposed project to be replicated successfully, if positive results are obtained, in a variety of settings and with a variety of student populations. Evidence of this ability includes the availability of resources and expertise required for implementing the project with fidelity, and the proposed project's evidence of relative ease of use or user satisfaction.

(4) The eligible applicant's estimate of the cost of the proposed project, which includes the start-up and operating costs per student per year (including indirect costs) for reaching the total number of students proposed to be served by the project. The eligible applicant must include an estimate of the costs for the eligible applicant or others (including other partners) to reach 100,000, 250,000, and 500,000 students.

(5) The mechanisms the eligible applicant will use to broadly disseminate information on its project so as to support further development or replication.

F. Sustainability (up to 10 points).

The Secretary considers the adequacy of resources to continue to develop or expand the proposed practice, strategy, or program after the grant period ends.

In determining the adequacy of resources for the proposed project, the Secretary considers the following factors:

(1) The extent to which the eligible applicant demonstrates that it has the resources, as well as the support from stakeholders (e.g., State educational agencies, teachers' unions) to operate the project beyond the length of the Development grant.

(2) The potential and planning for the incorporation of project purposes, activities, or benefits into the ongoing work of the eligible applicant and any other partners at the end of the Development grant.

G. Quality of the Management Plan and Personnel (up to 10 points).

The Secretary considers the quality of the management plan and personnel for the proposed project.

In determining the quality of the management plan and personnel for the proposed project, the Secretary considers:

(1) The adequacy of the management plan to achieve the objectives of the proposed project on time and within budget, including clearly defined responsibilities, timelines, and milestones for accomplishing project tasks.

(2) The qualifications, including relevant training and experience, of the project director and key project personnel, especially in managing projects of the size and scope of the proposed project.

Table 1—Differences Between the Three Types of Investing in Innovation Fund Grants in Terms of the Evidence Required to Support the Proposed Practice, Strategy, or Program
| Scale-up grants | Validation grants | Development grants
Strength of Research | Strong evidence | Moderate evidence | Reasonable hypotheses.
Internal Validity (Strength of Causal Conclusions) and External Validity (Generalizability) | High internal validity and high external validity | (1) High internal validity and moderate external validity; or (2) moderate internal validity and high external validity | Theory and reported practice suggest the potential for efficacy for at least some participants and settings.
Prior Research Studies Supporting Effectiveness or Efficacy of the Proposed Practice, Strategy, or Program | (1) More than one well-designed and well-implemented experimental study or well-designed and well-implemented quasi-experimental study; or (2) one large, well-designed and well-implemented randomized controlled, multisite trial | (1) At least one well-designed and well-implemented experimental or quasi-experimental study, with small sample sizes or other conditions of implementation or analysis that limit generalizability; (2) at least one well-designed and well-implemented experimental or quasi-experimental study that does not demonstrate equivalence between the intervention and comparison groups at program entry but that has no other major flaws related to internal validity; or (3) correlational research with strong statistical controls for selection bias and for discerning the influence of internal factors | (1) Evidence that the proposed practice, strategy, or program, or one similar to it, has been attempted previously, albeit on a limited scale or in a limited setting, and yielded promising results that suggest that more formal and systematic study is warranted; and (2) a rationale for the proposed practice, strategy, or program that is based on research findings or reasonable hypotheses, including related research or theories in education and other sectors.
Practice, Strategy, or Program in Prior Research | The same as that proposed for support under the Scale-up grant | The same as, or very similar to, that proposed for support under the Validation grant | The same as, or similar to, that proposed for support under the Development grant.
Participants and Settings in Prior Research | Participants and settings included the kinds of participants and settings proposed to receive the treatment under the Scale-up grant | Participants or settings may have been more limited than those proposed to receive the treatment under the Validation grant | Participants or settings may have been more limited than those proposed to receive the treatment under the Development grant.
Significance of Effect | Effect in prior research was statistically significant, and would be likely to be statistically significant in a sample of the size proposed for the Scale-up grant | Effect in prior research would be likely to be statistically significant in a sample of the size proposed for the Validation grant | Practice, strategy, or program warrants further study to investigate efficacy.
Magnitude of Effect | Based on prior research, substantial and important for the target population for the Scale-up project | Based on prior research, substantial and important, with the potential of the same for the target population for the Validation project | Based on prior implementation, promising for the target population for the Development project.

2. Review and Selection Process: The Department will screen applications submitted in accordance with the requirements in this notice, and will determine which applications are eligible to be read based on whether they have met eligibility and other statutory requirements.

For all three grant reviews, the Department will use independent reviewers from various backgrounds and professions including: Pre-kindergarten-12 teachers and principals, college and university educators, researchers and evaluators, social entrepreneurs, strategy consultants, grant makers and managers, and others with education expertise. The Department will thoroughly screen all reviewers for conflicts of interest to ensure a fair and competitive review process.

Reviewers will read, prepare a written evaluation, and score the applications assigned to their panel, using the selection criteria provided in this notice.

To be eligible for an award, an application for a Scale-up grant must be supported by strong evidence (as defined in this notice) and an application for a Validation grant must be supported by moderate evidence (as defined in this notice). For Scale-up and Validation grant applications, peer reviewers will review and score all eligible applications. If eligible applicants have chosen to address the competitive preference priorities and receive points for the competitive preference priorities, those points will be added to the eligible applicant's score. The Department may ask Scale-up grant finalists to send a team to the Department's headquarters in Washington, DC to present their proposed project to a panel of reviewers. The panel will take this opportunity to gain a more comprehensive understanding of the applicant's proposed project. At the conclusion of the presentation process, reviewers will complete their scoring of the applications based on the selection criteria.

To be eligible for an award, an application for a Development grant must be supported by a reasonable hypothesis. For Development grant applications, the Department intends to conduct a two-tier review process to review and score all eligible applications. Reviewers will review and score all eligible Development applications on the following five criteria: A. Need for the Project and Quality of the Project Design; C. Experience of the Eligible Applicant; E. Strategy and Capacity to Further Develop and Bring to Scale; F. Sustainability; and G. Quality of the Management Plan and Personnel. If eligible applicants have chosen to address the competitive preference priorities, reviewers will review and score those competitive preference priorities. If points are awarded, those points will be added to the eligible applicant's score. Eligible applications that score highly on these five criteria will then have the remaining two criteria reviewed and scored by a different panel of reviewers. The remaining criteria are as follows: B. Strength of Research, Significance, of Effect, and Magnitude of Effect and D. Quality of the Project Evaluation.

For all three types of applications, the Secretary prepares a rank order of applications based solely on the evaluation of their quality according to the selection criteria. In accordance with 34 CFR 75.217(c)(3), the Secretary will make final awards after considering the rank ordering and other information including an applicant's performance and use of funds and compliance history under a previous award under any Department program. In making awards under any future competitions, the Secretary will consider an applicant's past performance, including the quality of the evaluation produced by the applicant under a previous Investing in Innovation grant.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, each grantee must submit a final performance report, including financial information, as directed by the Secretary. If you receive a multi-year award, you must submit an annual performance report that provides the most current performance and financial expenditure information as directed by the Secretary under 34 CFR 75.720(a) and (b). The Secretary may also require more frequent performance reports under 34 CFR 75.720(c). For specific requirements on reporting, please go to http://www.ed.gov/fund/grant/apply/appforms/appforms.html.

In addition to these reporting requirements, each grantee that receives Investing in Innovation funds must also meet the reporting requirements that apply to all ARRA-funded programs. Specifically, each grantee must submit reports, within 10 days after the end of each calendar quarter, that contain the information required under section 1512(c) of the ARRA in accordance with any guidance issued by the Office of Management and Budget or the Department (ARRA division A, section 1512(c)).

In addition, for each year of the program, each grantee must submit a report to the Secretary, at such time and in such manner as the Secretary may require, that describes—

1. The uses of funds within the defined area of the proposed project;

2. How the applicant distributed the funds it received;

3. The number of jobs estimated to be saved or created with the funds; and

4. The project's progress in reducing inequities in the distribution of highly qualified teachers, implementing a longitudinal data system, and developing and implementing valid and reliable assessments for English language learners and students with disabilities.

4. Performance Measures: The overall purpose of the Investing in Innovation program is to expand the implementation of, and investment in, innovative practices that are demonstrated to have an impact on improving student achievement or student growth for high-need students. We have established several performance measures for each of the three types of the Investing in Innovation grants.

Scale-Up Grants

Short-term performance measures: (1) The percentage of grantees that reach their annual target number of students as specified in the application; (2) the percentage of programs, practices, or strategies supported by a Scale-up grant with ongoing well-designed and independent evaluations that will provide evidence of their effectiveness at improving student outcomes at scale; (3) the percentage of programs, practices, or strategies supported by a Scale-up grant with ongoing evaluations that are providing high-quality implementation data and performance feedback that allow for periodic assessment of progress toward achieving intended outcomes; and (4) the cost per student actually served by the grant.

Long-term performance measures: (1) The percentage of grantees that reach the targeted number of students specified in the application; (2) the percentage of programs, practices, or strategies supported by a Scale-up grant that implement a completed well-designed, well-implemented and independent evaluation that provides evidence of their effectiveness at improving student outcomes at scale; (3) the percentage of programs, practices, or strategies supported by a Scale-up grant with a completed well-designed, well-implemented and independent evaluation that provides information about the key elements and the approach of the project so as to facilitate replication or testing in other settings; and (4) the cost per student for programs, practices or strategies that were proven to be effective at improving educational outcomes for students.

Validation Grants

Short-term performance measures: (1) The percentage of grantees that reach their annual target number of students as specified in the application; (2) the percentage of programs, practices, or strategies supported by a Validation grant with ongoing well-designed and independent evaluations that will provide evidence of their effectiveness at improving student outcomes; (3) the percentage of programs, practices, or strategies supported by a Validation grant with ongoing evaluations that are providing high-quality implementation data and performance feedback that allow for periodic assessment of progress toward achieving intended outcomes; and (4) the cost per student actually served by the grant.

Long-term performance measures: (1) The percentage of grantees that reach the targeted number of students specified in the application; (2) the percentage of programs, practices, or strategies supported by a Validation grant that implement a completed well-designed, well-implemented and independent evaluation that provides evidence of their effectiveness at improving student outcomes; (3) the percentage of programs, practices, or strategies supported by a Validation grant with a completed well-designed, well-implemented and independent evaluation that provides information about the key elements and the approach of the project so as to facilitate replication or testing in other settings; and (4) the cost per student for programs, practices, or strategies that were proven to be effective at improving educational outcomes for students.

Development Grants

Short-term performance measures: (1) The percentage of grantees whose projects are being implemented with fidelity to the approved design; (2) the percentage of programs, practices, or strategies supported by a Development grant with ongoing evaluations that provide evidence of their promise for improving student outcomes; (3) the percentage of programs, practices, or strategies supported by a Development grant with ongoing evaluations that are providing high-quality implementation data and performance feedback that allow for periodic assessment of progress toward achieving intended outcomes; and (4) the cost per student actually served by the grant.

Long-term performance measures: (1) The percentage of programs, practices, or strategies supported by a Development grant with a completed evaluation that provides evidence of their promise for improving student outcomes; (2) the percentage of programs, practices, or strategies supported by a Development grant with a completed evaluation that provides information about the key elements and approach of the project so as to facilitate further development, replication, or testing in other settings; and (3) the cost per student for programs, practices, or strategies that were proven promising at improving educational outcomes for students.

VII. Agency Contact

For Further Information Contact: Margo Anderson, U.S. Department of Education, Office of Innovation and Improvement, 400 Maryland Avenue, SW., Room 4W302, Washington, DC 20202-5900, Telephone: (202) 453-7122 or by e-mail: i3@ed.gov.

If you use a TDD, call the Federal Relay Service, toll free, at 1-800-877-8339.

VIII. Other Information

Accessible Format: Individuals with disabilities can obtain this document and a copy of the application package in an accessible format (e.g., Braille, large print, audiotape, or computer diskette) on request to the program contact number or e-mail address listed under For Further Information Contact in section VII of this notice

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: March 4, 2010.
James H. Shelton III,
Assistant Deputy Secretary for Innovation and Improvement.

[FR Doc. 2010-5139 Filed 3-8-10; 11:15 am]

BILLING CODE 4000-01-P